DEPARTMENT OF AGRICULTURE

Forest Service

Mt. Baker-Snoqualmie National Forest; Snohomish County, WA; Green Mountain Lookout Removal

AGENCY: Forest Service, USDA.

ACTION: Notice of extension of public scoping comment period.

DATES: Comments must be received no later than July 8, 2013.

SUMMARY: The Mt. Baker-Snoqualmie National Forest hereby gives notice that it is extending the public scoping comment period for the Green Mountain Lookout Removal Project. A notice was originally published in the Federal Register on May 2, 2013 (Volume 78, No. 85), beginning a 30 day comment period. Please see the Notice of Intent (FR Doc. 2013-10322) for more information related to the project. In response to requests for additional time, the Forest Service will extend the comment period from June 3, 2013, to July 8, 2013.

ADDRESSES: Send written comments to Todd Griffin, Project Leader, Mt. Baker-Snoqualmie National Forest, 2930 Wetmore Avenue, Suite 3A, Everett, Washington 98201. Comments may also be sent via email to toddgriffin@fs.fed.us, or via facsimile to (425) 783-0141.

FOR FURTHER INFORMATION CONTACT: Todd Griffin, Project Leader, at the address listed above or by telephone (360) 677-2258.

Dated: May 28, 2013.
Steve Kuennen,
Acting Forest Supervisor.

[FR Doc. 2013-13008 Filed 5-31-13; 8:45 am]

BILLING CODE 3410-11-P